DEPARTMENT OF HOUSING AND URBAN DEVELOPMENT

[Docket No. FR-5553-D-01]

Delegation of Authority to the Chief Operating Officer

AGENCY: Office of the Deputy Secretary, U.S. Department of Housing and Urban Development (HUD).

ACTION: Notice of delegation of authority.

SUMMARY: In this notice, the Deputy Secretary delegates to the Chief Operating Officer all management and supervisory authority for the following offices: the Chief Information Officer (CIO); the Chief Human Capital Officer (CHCO); the Chief Procurement Officer (CPO); the Director of Field Policy Management (FPM); the Director of the Office of Strategic Planning and Management; and the Chief Disaster and National Security Officer.

DATES: Effective Date: April 15, 2011.

FOR FURTHER INFORMATION CONTACT: Lawrence D. Reynolds, Assistant General Counsel for Administrative Law, Office of General Counsel, Department of Housing and Urban Development, 451 7th Street, SW., Room 9256, Washington, DC 20410-0500, telephone number 202-402-3502. (This is not a toll-free number.) Individuals with speech or hearing impairments may access this number through TTY by calling 1-800-877-8339.

SUPPLEMENTARY INFORMATION: Certain management and program functions previously performed by an Assistant Secretary for Administration will now be performed by a Chief Operating Officer (COO). These functions include executive scheduling, field administrative resources, security and emergency planning, grants management and oversight, executive secretariat, Freedom of Information Act processing, budgeting, accounting, hiring and training employees, modernizing information technology systems, information security, protecting privacy, procurement and contracting, strategic planning, disaster preparedness operations, and field policy and management. These function are performed in the offices of the Chief Human Capital Officer (CHCO), the Chief Information Officer (CIO), the Chief Procurement Officer (CPO), Director of Field Policy Management, Chief Disaster and National Security Officer, and the Director of Strategic Planning and Management. The COO has been delegated management and program authority for these offices. Additionally, the Chief Financial Officer (CFO) Reports to the Chief Operating Officer.

Section A. Authority

The Deputy Secretary of Housing and Urban Development hereby delegates to the Chief Operating Officer authority to manage and supervise the following offices and functions:

1. Office of the Chief Human Capital Officer: This office is responsible for employee performance management; executive resources; human capital field support; human capital policy, planning and training; facilities management services; recruitment and staffing; personnel security; employee assistance program, health and wellness; employee and labor relations; pay, benefits and retirement center; human capital information systems; budget; Executive Secretariat correspondence management; and processing of Freedom of Information Act requests.

2. Office of the Chief Information Officer: This office is responsible for modernizing information technology systems, information security, and protecting privacy.

3. Office of the Chief Procurement Officer: This office is responsible for all procurement and contracting activity by the Department.

4. Office of the Director of Field Policy Management: This office provides direction and oversight for Regional and Field Office Directors.

5. Office of the Chief Disaster and National Security Officer: This office is responsible for the Department's disaster response and recovery programs.

6. Office of Strategic Planning and Management: This office is responsible for the Department's strategic planning, and performance management and measurement.

Section B. Authority Excepted

The authority delegated in this document does not include the authority to sue or be sued or to issue or waive regulations.

Section C. Authority to Redelegate

The Chief Operating Officer may redelegate to employees of HUD any of the authority delegated under Section A above.

Section D. Authority Superseded

This delegation revokes all previous delegations of authority from the Secretary or the Deputy Secretary to the Assistant Secretary for Administration.

Authority: Section 7(d) Department of Housing and Urban Development Act, 42 U.S.C. 3535(d)

Dated: April 15, 2011.
Ron Sims,
Deputy Secretary.

[FR Doc. 2011-14599 Filed 6-13-11; 8:45 am]

BILLING CODE 4210-67-P